DEPARTMENT OF THE INTERIOR

Bureau of Reclamation

Resource Management Plan, Newlands Project, Washoe, Lyon, and Churchill Counties, NV

AGENCY: Bureau of Reclamation, Interior.

ACTION: Notice of intent to prepare an environmental document (environmental assessment or environmental impact statement) and notice of public meetings.

SUMMARY: Pursuant to the National Environmental Policy Act (NEPA), the Bureau of Reclamation (Reclamation) proposes to prepare an environmental document for the purpose of evaluating options for management of natural resources within the Newlands Project.

The purpose of the action is to prepare a Resource Management Plan (RMP) for the lands managed in association with the Newlands Project. The RMP will be used to foster proper stewardship of public lands. The goal of Reclamation's RMP is to create a balance of resource development, recreation, and protection of natural and cultural resources for the lands and waters being managed. The plan will outline Reclamation management actions that will be implemented over a 10-year planning span.

DATES: Public scoping meetings will be held to solicit public input on identification of resource issues on Newlands Project lands and features, and for the development of alternative management strategies for those resources. There will be additional opportunities to comment on the scope of alternatives and impacts at such time as those alternatives and impacts have been further developed through the RMP and NEPA process.

The meetings dates and times are as follows:

• Tuesday, September 18, 2007, 6 to 8 p.m., Reno , NV.

• Wednesday, September 19, 2007, 6 to 8 p.m., Fallon, NV.

Written comments should be mailed to Reclamation at the address below by October 3, 2007.

ADDRESSES: The public scoping meeting locations are:

• Reno at the Western Heritage Cultural Center, 6000 Bartley Ranch Road.

• Fallon at the Fallon Convention Center, 100 Campus Way .

Written comments on the scope of this action should be sent to: Ms. Terri Edwards, Bureau of Reclamation, 705 N. Plaza Street, Room 320, Carson City, NV 89701, via e-mail tedwards@mp.usbr.gov, or faxed to 775-884-8376.

FOR FURTHER INFORMATION CONTACT: Ms. Terri Edwards, Reclamation Project Manager, at the above address, at 775-884-8353, via fax at 775-884-8376, or e-mail at tedwards@mp.usbr.gov.

SUPPLEMENTARY INFORMATION: Reclamation's authority to prepare RMPs is specifically outlined in the Reclamation Recreation Management Act of 1992 (Pub.L. 102-575, Title 28). The Act authorized the preparation of RMPs to “provide for the development, use, conservation, protection, enhancement, and management of resources of Reclamation lands in a manner that is compatible with the authorized purposes of the Reclamation Project associated with the Reclamation lands.”

The Newlands Project is primarily an irrigation project as set forth in legislation. The purposes of the Newlands Project were expanded in 1990 under Section 209 of Public Law 101-618. In addition to the existing irrigation purpose of the Newlands Reclamation Project, the Secretary of Interior is authorized to operate and maintain the project for the purposes of:

1. Fish and wildlife, including endangered and threatened species;

2. Municipal and industrial water supply in Lyon and Churchill counties, Nevada, including the Fallon Indian Reservation;

3. Recreation;

4. Water quality; and

5. Any other purposes recognized as beneficial under the law of the State of Nevada.

However, additional uses of the Newlands Project (1) Must have valid water rights and follow State law for any water right transfers; (2) must not increase diversions of Truckee River water to the Newlands Project over those allowed under applicable operating criteria and procedures; and (3) must not conflict with applicable court decrees.

Reclamation has a contract with the Truckee-Carson Irrigation District to operate and maintain the Newlands Project Works. There is no intention to address operation and maintenance of Project Works through this RMP process.

The Newlands Project RMP should achieve the following:

1. Identify issues and set forth goals and procedures for managing and administering resources on public lands.

2. Establish use levels and types of development that protect resources and are compatible with the uses of the public within legal and policy constraints; minimize conflicts among users.

3. Provide a flexible tool for land managers to assist in the proper administration, day-to-day operation, development, and management of public lands.

4. Provide a tool to aid in setting funding and staffing levels.

If special assistance is required at the scoping meetings, please contact Terri Edwards at 775-884-8353 or via e-mail at tedwards@mp.usbr.gov. Please notify Ms. Edwards as far in advance of the meetings as possible to enable Reclamation to secure the needed services. If a request cannot be honored, the requestor will be notified. A telephone device for the hearing impaired (TDD) is available at 916-978-5608.

Before including your name, address, phone number, e-mail address, or other personal identifying information in your comment, you should be aware that your entire comment—including your personal identifying information—may be made publicly available at any time. While you can ask us in your comment to withhold your personal identifying information from public review, we cannot guarantee that we will be able to do so.

Dated: August 7, 2007.
Michael Nepstad,
Acting Regional Environmental Officer, Mid-Pacific Region.

[FR Doc. E7-15988 Filed 8-14-07; 8:45 am]

BILLING CODE 4310-MN-P